DEPARTMENT OF HEALTH AND HUMAN SERVICES

Centers for Medicare & Medicaid Services

[Document Identifier: CMS-R-50 and CMS-10054]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the agency's function; (2) the accuracy of the estimated burden; (3) ways to enhance the quality, utility, and clarity of the information to be collected; and (4) the use of automated collection techniques or other forms of information technology to minimize the information collection burden.

1. Type of Information Collection Request: Extension of a currently approved collection; Title of Information Collection: Medical Records Review under Inpatient PPS and Supporting Regulations in 42 CFR, Sections 412.40-412.52; Form No: CMS-R-50 (OMB# 0938-0359); Use: The Quality Improvement Organizations (QIOs) are authorized to conduct medical review activities under the Prospective Payment System (PPS). In order to conduct these review activities, CMS depends upon hospitals to make available specific records regarding care provided to Medicare beneficiaries. The Clinical Data Abstraction Centers (CDACs) obtain copies of medical records from which they abstract data to analyze patterns of care and outcomes for heart failure/myocardial infarction, pneumonia, diabetes and surgical infection; Frequency: When records are reviewed; Affected Public: Business or other for-profit, Not-for-profit institutions, Federal Government, and State, Local or Tribal Government; Number of Respondents: 6,100; Total Annual Responses: 397,500; Total Annual Hours: 11,925.

2. Type of Information Collection Request: Extension of a currently approved collection; Title of Information Collection: Recognition of Payment for New Technology Services for Ambulatory Payment Classifications (APCs) Under the Outpatient Prospective Payment System and Supporting Regulations in 42 CFR, Sections 413.65 and 419.42; Form Number: CMS-10054 (OMB# 0938-0860); Use: Information is necessary to determine eligibility of medical devices for establishment of additional device categories for payment under transitional pass-through payment provisions as required by section 1833(t)(6) of the Social Security Act. Transitional pass-through payments have been made to hospitals for certain drugs, biologicals, and medical devices; Frequency: On occasion; Affected Public: Business or other for-profit; Number of Respondents: 15; Total Annual Responses: 15; Total Annual Hours: 180.

To obtain copies of the supporting statement and any related forms for the proposed paperwork collections referenced above, access CMS Web site address at http://www.cms.hhs.gov/regulations/pra/, or E-mail your request, including your address, phone number, OMB number, and CMS document identifier, to Paperwork@cms.hhs.gov, or call the Reports Clearance Office on (410) 786-1326.

Written comments and recommendations for the proposed information collections must be mailed within 30 days of this notice directly to the OMB desk officer: OMB Human Resources and Housing Branch, Attention: Christopher Martin, New Executive Office Building, Room 10235, Washington, DC 20503.

Dated: January 19, 2005.
John P. Burke, III,
CMS Paperwork Reduction Act Reports Clearance Officer, Office of Strategic Operations and Regulatory Affairs, Regulations Development Group.

[FR Doc. 05-1481 Filed 1-27-05; 8:45 am]

BILLING CODE 4120-03-P